DEPARTMENT OF AGRICULTURE

Food and Nutrition Service

Agency Information Collection Activities: FNS 245—Supplemental Nutrition Assistance Program Negative Case Action Review Schedule

AGENCY: Food and Nutrition Service (FNS), USDA.

ACTION: Notice.

SUMMARY: In accordance with the Paperwork Reduction Act of 1995, this notice invites the general public and other public agencies to comment on this proposed information collection. This collection is a revision of a currently approved collection. This information collection, the FNS-245, Negative Case Action Review Schedule, is designed to collect quality control (QC) data and serve as the data entry form for negative case action QC reviews in the Supplemental Nutrition Assistance Program (SNAP). Revisions to the form, its instructions, and burden hours are within.

DATES: Written comments must be received on or before December 24, 2024.

ADDRESSES: Comments may be sent to: John McCleskey, Food and Nutrition Service, U.S. Department of Agriculture, 1320 Braddock Place, 5th Floor, Alexandria, VA 22314. Comments may also be submitted via email to SM.FN.SNAPQCRules-ICR@usda.gov or may also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to John McCleskey at 703-457-7747.

SUPPLEMENTARY INFORMATION:

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: FNS-245: SNAP Negative Case Action Review Schedule.

Form Number: FNS-245.

OMB Control Number: 0584-0034.

Expiration Date: December 31, 2024.

Type of Request: Revision of a currently approved collection.

Abstract: The FNS-245, Negative Case Action Review Schedule, is designed to collect quality control (QC) data and serves as the data entry form for negative case action QC reviews in the Supplemental Nutrition Assistance Program (SNAP). State agencies complete the FNS-245 for each negative case in their QC sample. The number of responses for reporting and recordkeeping increased from 177,230 to 196,615 responses; a total increase of 19,385 due to the increase in number of cases selected for negative review. The reporting and recordkeeping burden associated with the completion of the FNS-245 has increased from approximately 112,491.43 hours to 125,778.55 hours. The 13,203.96-hour increase in the total burden is largely a result of an administrative adjustment due to the increase in total SNAP negative action case selections for review from 34,322 cases in fiscal year (FY) 2018 to 39,323 cases in FY 2023 and due to a program change to add two new codes to the form for the head of household's race/ethnic information and to include household zip code. The program is adding 1.5 minutes or 0.025 hours to the case record review burden to now include reviewing this information in the case record to properly report the information on the form. A summary of the revised reporting and recordkeeping estimates are below, along with a revision of the burden table.

The program is making additional revisions to the form that do not impact burden. These include:

—Clarification that Section I must be submitted to FNS for the QC review process, though the information contained within will not be part of the official Federal record of FNS 245 data, which is permanently retained per Federal record requirements.

—In Section II, instead of three case classification codes for item 9, there will now be two—included or excluded from the error rate calculation.

—For Section III,

—Existing elements 111, 130, 162, 365 and 413 include terminology updates for accuracy, and elements 313 and 540 are now 314 and 541 to align with the element numbering on the active QC forms, FNS 380-Worksheet for active QC reviews (OMB 0584-0074 FNS-380 Worksheet for the Supplemental Nutrition Assistance Program Quality Control Reviews, expiration 7-31-25) and FNS 380-1, the Review Schedule for Active cases (OMB 0584-0299 FNS-380-1 Supplemental Nutrition Assistance Program's Quality Control Review Schedule, expiration 9-30-26).

—Item 10a, Disposition of the review, code 3, is revised to indicate the review cannot be processed since no electronic or paper records exist.

—Item 14d's code 99 is revised to code 00 to correct the numerical association with the code description.

—Items 17 and 18 now have four new possible elements for variance identification: Element 214—Substantial Lottery or Gambling Winnings, 362—Homeless shelter deduction, 540—Missing Required Reports (Monthly, Quarterly or Periodic Report Forms), and Element 542—Expired Certification Period. All changes may be reviewed on the form provided with this notice.

Reporting

Affected Public: State, Local and Tribal Government.

Estimated Number of Respondents: 53 State Agencies.

Estimated Number of Responses per Respondent: 2,967.77.

Estimated Total Annual Responses: 157,292.

Estimated Time per Response: 3.175 hours.

Estimated Total Annual Burden on Respondents: 124,850.53.

Recordkeeping

Affected Public: State, Local and Tribal Government.

Estimated Number of Respondents: 53 State Agencies.

Estimated Number of Responses per Respondent: 741.94.

Estimated Total Annual Responses: 39,323.

Estimated Time per Response: 0.0236 hour.

Estimated Total Annual Burden on Respondents: 928.02.

Grand Total Reporting and Recordkeeping Annual Burden: 125,778.55.

Reporting and Recordkeeping Burden for State Agencies FNS 245, OMB 0584-0034
Regulation | Description of activity | Number of respondents | Estimated frequency number of negative sample cases per respondent | Estimated total annual number of negative sample cases per annum | Estimated annual reporting hours per respondents | Estimated total annual burden hours | Previous submission total hours | Difference due to program changes | Difference due to adjustments
Reporting Burden
275.13(b) | Household Case Record Review | 53 | 741.94 | 39,323.00 | 1.525 | 59,967.58 | 53,169.00 | 983.08 | 5,815.50
275.13(c) | Error analysis | 53 | 741.94 | 39,323.00 | 1.15 | 45,221.45 | 40,762.90 |  | 4,458.55
275.13(d) | Reporting of review findings | 53 | 741.94 | 39,323.00 | 0.25 | 9,830.75 | 8,861.50 |  | 969.25
275.13(e) | Disposition of case review | 53 | 741.94 | 39,323.00 | 0.25 | 9,830.75 | 8,861.50 |  | 969.25
Total Reporting Burden | 53 | 2,967.77 | 157,292.00 | 3.175 | 124,850.53 | 111,654.90 | 983.08 | 12,212.55
|  |  |  |  |  | ttl rep diff | 13,195.63
Recordkeeping Burden
275.4 | Record Retention | 53 | 741.9433962 | 39,323.00 | 0.0236 | 928.0228 | 836.5256 |  | 91.4972
Total Recordkeeping Burden
Total Reporting and Recordkeeping Burden | 53 | 3709.72 | 196,615.00 | 3.1986 | 125,778.55 | 112,491.43 | 983.08 | 12,304.05
|  |  |  |  |  | ttl rep/rcdkp difference | 13,287.12

Tameka Owens,
Acting Administrator and Assistant Administrator, Food and Nutrition Service.

[FR Doc. 2024-24866 Filed 10-24-24; 8:45 am]

BILLING CODE 3410-30-P